DEPARTMENT OF EDUCATION

[CFDA No. 84.215X]

Office of Innovation and Improvement—Teaching American History Grant Program; Notice Inviting Applications for New Awards for Fiscal Year (FY) 2003

Note to Applicants: This notice is a complete application package. Together with the statute authorizing this program and the Education Department General Administrative Regulations (EDGAR), this notice contains all of the information, application forms, and instructions needed to apply for a grant under this competition.

Purpose of Program: Teaching American History grants support projects to raise student achievement by improving teachers' knowledge, understanding, and appreciation of traditional American history. Grant awards assist local educational agencies (LEAs), in partnership with entities that have extensive content expertise, to develop, document, evaluate, and disseminate innovative, cohesive models of professional development. By helping teachers to develop a deeper understanding and appreciation of traditional American history as a separate subject matter within the core curriculum, these programs improve instruction and raise student achievement.

Note: The Secretary construes traditional American history to mean the following: Traditional American history teaches the significant issues, episodes, and turning points in the history of the United States, and how the words and deeds of individual Americans have determined the course of our Nation. This history teaches how the principles of freedom and democracy, articulated in our founding documents, have shaped—and continue to shape—America's struggles and achievements, as well as its social, political, and legal institutions and relations. Traditional history puts its highest priority on making sure students have an understanding of these principles and of the historical events and people that best illustrate them.

Eligible Applicants: Local educational agencies (LEAs)—including charter schools that are considered LEAs under State law and regulations—working in partnership with one or more of the following entities:

• Institutions of higher education (IHEs);

• Non-profit history or humanities organizations; and

• Libraries and museums.

Note: Groups of LEAs interested in submitting a single application must follow the procedures for group applications in 34 CFR 75.127-75.129 of the Education Department General Administrative Regulations (EDGAR).

Notification of Intent To Apply for Funding: The Department will be able to develop a more efficient process for reviewing grant applications if it has a better understanding of the number of LEAs that intend to apply for funding under this competition. Therefore, the Secretary strongly encourages each potential applicant to notify the Department with a short e-mail noting the intent to submit an application for funding. The e-mail need not include information regarding the content of the proposed application, only the applicant's intent to submit it. The Secretary requests that this e-mail notification be sent no later than June 6, 2003, to Christine Miller at: teachingamericanhistory@ed.gov.

Applicants that fail to provide this e-mail notification may still apply for funding.

Deadline for Transmittal of Applications: July 7, 2003.

Deadline for Intergovernmental Review: September 5, 2003.

Estimated Available Funds: $99,350,000.

Estimated Range of Awards: Total funding per grant, for a three-year project period is $350,000-$1,000,000 for LEAs with enrollments of less than 300,000 students; $500,000-$2,000,0000 for LEAs with enrollments above 300,000 students.

Estimated Average Size of Awards: Total for all three years is $500,000.

Maximum Award Amount: The total amount of funding that an LEA may receive under this competition is $2,000,000.

Estimated Number of Awards: 100-125.

Note: The Department of Education is not bound by any estimates in this notice.

Project Period: Up to 36 months.

Please note that applicants for multi-year awards are required to provide detailed budget information for the total grant period requested. The Department will determine at the time of the initial award the funding levels for each year of the grant award.

Note: To provide the applicant the capacity to effectively plan for and carry out the comprehensive long-term activities involved in ongoing, intensive professional development, to establish partnerships to support this work, and to document and demonstrate the effectiveness of its program for future dissemination, the Secretary anticipates awarding the entire three-year grant amount for the project at the time of the initial award.

Page Limits: Applicants are strongly encouraged to limit the application narrative to no more than 20 single-sided, double-spaced pages printed in 12 point font or larger. If the applicant is addressing the competitive priority for evaluation, the narrative should be limited to 25 pages. The page limitation does not include the title page, Application for Federal Assistance (ED 424), one-page abstract, the budget summary form (ED 524) and the narrative budget justification, any curriculum vitae, the bibliography of literature cited, or the assurances and certifications.

The following standards are preferred: (1) A “page” is 8.5″ x 11″ (one side only) with one-inch margins (top, bottom, and sides). (2) Use 12-point font for all text in the application narrative.

The page limit does not apply to the cover sheet, the one-page abstract, budget section, appendices, and forms and assurances.

Applicable Regulations and Statute: (a) Regulations. The Education Department General Administrative Regulations (EDGAR) in 34 CFR parts 75, 77, 79, 80, 81, 82, 85, 86, 97, 98 and 99. (b) Statute. Part C, subpart 4, of Title II of the Elementary and Secondary Education Act as reauthorized by the No Child Left Behind Act of 2001.

Description of Program: Students who know and appreciate the great ideas, issues, and events of American history are more likely to understand and exercise their civic rights and responsibilities. Their understanding of traditional American history will be enhanced if it is taught as a separate academic subject and not as a component of social studies. Teachers must have strong content knowledge to teach students effectively about the significant issues, episodes, individuals, and turning points in the history of the United States.

The Teaching American History Grant program will support projects to raise student achievement in traditional American history by improving teachers' knowledge, understanding, and appreciation for American history through intensive, ongoing professional development. Project activities should enable teachers to develop further expertise in American history subject content, teaching strategies, and other essential elements of teaching to higher standards. Projects should be driven by a coherent, long-term plan and should be evaluated on the basis of their impact on teacher effectiveness and student learning. This assessment should guide subsequent professional development efforts.

This program will demonstrate how LEAs and institutions with expertise in traditional American history can collaborate over a three-year period to ensure that teachers develop the content knowledge and skills necessary to teach traditional American history effectively as a separate academic subject. In addition to any dissemination conducted directly by grantees, the Department intends to take the products and information resulting from this grant program and share the results with other communities.

Under this program, applicants must propose projects that—

• Develop and implement high-quality in-service or pre-service professional development that provides educators with content knowledge and related teaching skills to prepare all students to achieve to higher standards in American history; and

• Develop and implement strategies for sustained and on-going collaboration that will take place over the course of at least three years among teachers and outside experts to improve content knowledge and instruction in traditional American history.

Applicants should consider projects that include at least one or more of the following activities:

• Supporting participation of teams of teachers in summer institutes and summer immersion activities designed to improve content knowledge and instruction in traditional American history.

• Supporting school-based collaborative efforts among teachers, including programs that facilitate teacher observation and analyses of fellow history teachers' classroom practice to improve content knowledge and instruction.

• Developing programs to assist new history teachers in the classroom, such as programs that employ—

(a) Mentoring and coaching by trained mentor teachers over the entire grant period;

(b) Team teaching with experienced history teachers; or

(c) Providing release time for observation and consultation with experienced history teachers.

• Providing collaborative professional development experiences for veteran history teachers.

• Supporting LEA collaboration with history departments at IHEs to improve content understanding and quality of instruction in the LEA.

• Developing programs to improve history knowledge and instruction, and therefore student achievement, in high-poverty areas or for disadvantaged students.

• Establishing and maintaining professional networks, focused specifically on teaching traditional American history, that provide a forum for interaction among teachers and that allow for the exchange of information.

• Providing guidance to teachers on the use of technology to provide access to primary historical documents and develop effective presentations of historical content.

• Creating materials documenting the implementation and benefits of the program and products for other educators to use in the course of teaching American history as a separate subject within the core curriculum.

Annual Meeting

Budgets must include funds for at least two project staff members to attend a two-day annual meeting of the Teaching American History Grant program in Washington, DC, each year of the project. Applicants must include funds to cover travel and lodging expenses for these training activities during each year of the project.

Priorities

This competition focuses on three priorities that are explained in the following paragraphs. To be considered for funding, each applicant must address the absolute priority regarding Collaboration with Other Agencies. The competitive preference priority for evaluation allows an applicant to earn additional points beyond the 100 points provided under the selection criteria.

Absolute Priority: Collaboration With Other Agencies or Institutions

(a) Each applicant must propose to work in collaboration with one or more of the following entities:

• Institutions of higher education;

• Non-profit history or humanities organizations; or

• Libraries or museums.

(b) The applicant must identify the entity or entities with which it will collaborate and include in its application an assurance from appropriate officials of those entities that they will work with the applicant in implementing the proposal.

Under 34 CFR 75.105(c)(3) we consider only applications that meet this absolute priority.

Competitive Preference Priority: Under 34 CFR 75.105(c)(2)(i), we award up to an additional 20 points to an application, depending on how well the application meets this competitive preference priority. These points are in addition to any points the application earns under the selection criteria. In reviewing applications that address this competitive preference priority, we consider awarding additional points only to those applicants with top-ranked scores on their selection criteria. We expect that up to 10 applicants will receive these additional competitive preference points.

Competitive preference points can be earned by a project designed to determine, through a rigorous evaluation, whether the implemented program produces meaningful effects on student achievement or teacher performance.

Evaluations using an experimental design are best for determining program effectiveness. Thus, the project will ideally use an experimental design under which participants—that is, students, teachers, classrooms, or schools—are randomly assigned (a) to receive the program being evaluated or (b) to be in a control group that does not receive the program. Evaluations using an experimental design will receive up to 20 points in addition to any points the application earns under the selection criteria.

If random assignment is not feasible, the project may use a quasi-experimental design with carefully matched comparison conditions. This alternative design attempts to approximate a randomly assigned control group by matching program participants—that is, students, teachers, classrooms or schools—with non-participants having similar pre-program characteristics. Evaluations of this type will receive up to 15 points in addition to any points the application earns under the selection criteria.

Proposed evaluations that use neither experimental designs with random assignment nor quasi-experimental designs using a matched comparison group will receive 0 points under this competitive preference priority.

The program evaluator should collect—before the program commences and after it ends—valid and reliable data that measure the impact of participation in the program or in the comparison group.

We determine points under this priority by the quality of the proposed evaluation. We consider the extent to which the applicant presents a feasible, credible plan that includes the following:

• The type of design to be used (that is, random assignment or matched comparison).

• Outcomes to be measured.

• A discussion of how the applicant plans to assign students, teachers, classrooms, or schools to the program or match them for comparison with other students, teachers, classrooms, or schools.

• A proposed evaluator, preferably independent, with the necessary background and technical expertise to carry out the proposed evaluation.

Invitational Priority: We are particularly interested in applications that meet the following priority:

Applications from high-poverty rural and urban LEAs for projects designed to improve traditional American history instruction in chronically low-performing schools and improve achievement of disadvantaged students.

Under 34 CFR 75.105(c)(1), we do not give an application that meets the invitational priority a competitive or absolute preference over other applications.

Selection Criteria

The Secretary uses the following selection criteria to evaluate applications for grants under this competition. In all instances where the word “project” appears in the selection criteria, the reference to a Teaching American History program should be made. The maximum composite score for all of these criteria is 100 points. The maximum score for each criterion is indicated in parentheses. Within each criterion, unless otherwise noted, the Secretary evaluates each factor equally. We evaluate an application by determining how well the proposed project meets the following provisions. Please note that the Notes following each criterion are meant to serve as guidance to assist the applicant in creating a stronger application, and are not required by statute or regulation.

(a) Meeting the purpose of the statute. (Total of 70 points)

(1) Quality of the project design. (40 points)

The Secretary considers the quality of the project design for the proposed project by considering how well the applicant describes a plan for development, implementation, and strengthening of programs to teach traditional American history as a separate academic subject (not as a component of social studies) within elementary school and secondary school curricula, including the implementation of activities—

(i) To provide professional development and teacher education activities with respect to American history; and

(ii) To improve the quality of instruction, as demonstrated by the specific instructional activities teachers would implement to improve the quality of student work and knowledge of American History.

Note: The Secretary encourages the applicant to include a discussion of the specific history content to be covered by the grant; the format in which the applicant will deliver the history content; and the quality of the staff and consultants responsible for delivering these content-based professional development activities. The applicant may also, to the extent possible, attach curriculum vitae for individuals who will provide the content training to the teachers.

The applicant should also provide a description of plans to demonstrate how teachers are using the knowledge acquired from project activities to improve the quality of instruction. This description may include plans for reviewing how teachers' lesson planning and classroom teaching was affected by their participation in project activities.

(2) Need for project. (20 points)

The extent to which specific weaknesses in teacher knowledge of traditional American History and student performance in this subject have been identified and will be met by the project.

Note: The Secretary encourages the applicant to discuss the need for the proposed project and the significance of the project, including national significance. For example, the applicant could include information on: the extent to which teachers in the LEA are not certified in history or social studies; student achievement data in American history; and rates of student participation in courses such as Advanced Placement American history.

(3) Partnership(s). (10 points)

How well the applicant describes a plan that meets the statutory requirement to carry out activities under the grant in partnership with one or more of the following:

(i) An institution of higher education.

(ii) A nonprofit history or humanities organization.

(iii) A library or museum.

Note: The applicant should provide the rationale for selecting the partners and explain the specific activities that the partner(s) will contribute to the grant during each year of the project. The applicant should include a memorandum of understanding or detailed letters of commitment from the partner(s) in an appendix to the application narrative.

(b) Quality of the management plan. (10 points)

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and other key project personnel are appropriate and adequate to meet the objectives of the proposed project.

(c) Quality of the project evaluation. (20 points)

The Secretary considers the quality of the evaluation to be conducted of the proposed project. In determining the quality of the evaluation, the Secretary considers the extent to which the methods of evaluation include the use of objective performance measures that are clearly related to the intended outcomes of the project and will produce quantitative and qualitative data to the extent possible.

Note: The evaluation plan provided under this criterion should align with the project design explained under the Quality of project design criterion.

Reporting Requirements and Expected Outcomes

The Secretary requires successful applicants to submit annual performance reports that document the grantee's yearly progress toward meeting expected programmatic outcomes. These outcomes must be based on measurable performance objectives. The Secretary will use these reports to measure the success of the grantee's project, and the reports will contribute to a broader knowledge base about high-quality, effective professional development strategies that can improve the teaching and learning of American history nationwide.

In addition, grantees will be required to submit a final performance report, due no later than 90 days after the end of the project period.

Waiver of Proposed Rulemaking

Under the Administrative Procedure Act (5 U.S.C. 553) the Department generally offers interested parties the opportunity to comment on proposed selection criteria and other proposed program requirements. However, section 437(d)(2) of the General Education Provisions Act (GEPA) exempts from this rulemaking requirement those rules where the Secretary determines it would cause extreme hardship to the intended beneficiaries of the program. In order to make timely grant awards in FY 2003, the Secretary has decided to issue these final regulations without first publishing them for public comment, in accordance with section 437(d)(2) of GEPA. These regulations will apply to the FY 2003 grant competition only.

Intergovernmental Review of Federal Programs

This program is subject to Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. If you want to know the name and address of any SPOC, see the latest official SPOC list on the Web site of the Office of Management and Budget at the following address: http://www.whitehouse.gov/omb/grants/spoc.html.

In States that have not established a process or chosen a program for review, State, area wide, regional, and local entities may submit comments directly to the Department.

Any State Process Recommendation and other comments submitted by a SPOC and any comments from State, area wide, regional, and local entities must be mailed or hand-delivered by the date indicated in this application notice to the following address: The Secretary, E.O. 12372-CFDA #84.215X, U.S. Department of Education, room 7E200, 400 Maryland Avenue, SW., Washington, DC 20202-0125.

We will determine proof of mailing under 34 CFR 75.102 (Deadline date for applications). Recommendations or comments may be hand-delivered until 4:30 p.m. (Washington, DC time) on the date indicated in this notice.

Please Note That This Address Is Not the Same Address as the One to Which an Applicant Submits Its Completed Application. Do Not Send Applications to the Above Address.

Application Instructions and Forms

The Appendix to this notice contains forms and instructions, a statement regarding estimated public reporting burden, a notice to applicants regarding compliance with section 427 of the General Education Provisions Act, and various assurances and certifications and a checklist for applicants.

• Application for Federal Education Assistance (ED 424 (Exp. 11/30/2004)) and instructions and definitions.

• Budget Information—Non-Construction Programs (ED Form No. 524) and instructions.

• Application Narrative.

• Assurances—Non-Construction Programs (Standard Form 424B) (Rev. 7-97).

• Certifications regarding Lobbying; Debarment, Suspension, and Other Responsibility Matters; and Drug-Free Workplace Requirements (ED 80-0013, 12/98) and instructions.

• Certification regarding Debarment, Suspension, Ineligibility and Voluntary Exclusion: Lower Tier Covered Transactions (ED 80-0014, 9/90) and instructions. (NOTE: ED 80-0014 is intended for the use of grantees and should not be transmitted to the Department.)

• Disclosure of Lobbying Activities (Standard Form LLL (Rev. 7-97)) and instructions.

• Survey on Ensuring Equal Opportunity for Applicants and survey instructions.

You may submit information on a photocopy of the application and budget forms, the assurances, and the certifications. However, the application form, the assurances, and the certifications must each have an original signature. We will not award a grant unless we have received a completed application form.

Individuals with disabilities may obtain this document in an alternative format (e.g., Braille, large print, audiotape, or computer diskette) on request to the program contact person listed under FOR FURTHER INFORMATION CONTACT. However, the Department is not able to reproduce in an alternative format the standard forms included in this application notice.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

FOR FURTHER INFORMATION CONTACT: Christine Miller, Alex Stein, Harry Kessler, or Claire Geddes, U.S. Department of Education, 400 Maryland Avenue, SW., room 5C126, Washington, DC 20202-6200. Telephone: (202) 260-8766 (Christine Miller); (202) 205-9085 (Alex Stein); (202) 708-9943 (Harry Kessler); or (202) 260-8757 (Claire Geddes) or via Internet: teachingamericanhistory@ed.gov.

If you use a telecommunications device for the deaf (TDD), you may call the Federal Information Relay Service (FIRS) at 1-800-877-8339.

Instructions for Transmitting Applications

If you want to apply for a grant and be considered for funding, you must meet the following deadline requirements:

(A) If You Send Your Application by Mail: You must mail the original and two copies of the application on or before the deadline date. One copy of the application should be unbound and suitable for photocopying. To help expedite our review of your application, we would appreciate your voluntarily including an additional 2 copies of your application. We will not penalize applicants who do not provide additional copies. Mail your application to: U.S. Department of Education, Application Control Center, Attention: (CFDA #84.215X), 7th and D Streets, SW., Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(B) If You Deliver Your Application by Hand: You or your courier must hand deliver the original and two copies of the application by 4:30 p.m. (Washington, DC time) on or before the deadline date. One copy of the application should be unbound and suitable for photocopying. To help expedite our review of your application, we would appreciate your voluntarily including an additional 2 copies of your application. We will not penalize applicants who do not provide additional copies. Deliver your application to: U.S. Department of Education, Application Control Center, Attention: (CFDA #84.215X), 7th and D Streets, SW., Room 3671, Regional Office Building 3, Washington, DC 20202-4725.

The Application Control Center accepts application deliveries daily between 8 a.m. and 4:30 p.m. (Washington, DC time), except Saturdays, Sundays, and Federal holidays. The Center accepts application deliveries through the D Street entrance only. A person delivering an application must show identification to enter the building.

(1) The U.S. Postal Service does not uniformly provide a dated postmark. Before relying on this method, you should check with your local post office.

(2) If you send your application by mail or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

Program Authority: 20 U.S.C. 2351 et seq.

Dated: April 30, 2003.
Michael J. Petrilli,
Associate Deputy Under Secretary for Innovation and Improvement.

Appendix

Instructions for Estimated Public Reporting Burden

According to the Paperwork Reduction Act of 1995, you are not required to respond to a collection of information unless it displays a valid OMB control number. The valid OMB control number for this collection of information is 1890-0009. Expiration date: June 30, 2005. We estimate the time required to complete this collection of information to average 65 hours per response, including the time to review instructions, search existing data sources, gather the data needed, and complete and review the collection of information. If you have any comments concerning the accuracy of the time estimate or suggestions for improving this form, please write to: U.S. Department of Education, 400 Maryland Avenue, SW., Washington, DC 20202-4651.

If you have comments or concerns regarding the status of your submission of this form, write directly to: Christine Miller, U.S. Department of Education, 400 Maryland Avenue, SW., room 5C126, Washington, DC 20202-6200.

Instructions for Application Narrative

Applications should be concise and clearly written. Before preparing the narrative, applicants should review the closing date notice and program statute for specific guidance or requirements. Note that applications will be evaluated according to the selection criteria specified in this closing date notice.

Successful applicants will be expected to report annually on the progress of each project or study included in the grant, including a description of preliminary or key findings and an explanation of any changes in goals, objectives, methodology, or planned products or publications.

Note: The section on PAGE LIMIT elsewhere in this application notice applies to your application.

Instructions for the Abstract

For non-electronic submissions, include the name and address of your organization and the name, phone number and e-mail address of the contact person for this project.

The abstract narrative must not exceed one page and should use language that will be understood by a range of audiences. For all projects, include the project title (if applicable), goals, expected outcomes and contributions for research, policy, practice, etc. Include population to be served, as appropriate. For research applications, also include the following:

• Theoretical and conceptual background of the study (i.e., prior research that this investigation builds upon and that provides a compelling rationale for this study)

• Research issues, hypotheses, and questions being addressed

• Study design including a brief description of the sample including sample size, methods, principal dependent, independent, and control variables, and the approach to data analysis.

Checklist for Applicants

Applications must include the following:

• Title Page Form—Application for Federal Education Assistance (ED 424).

• Application Abstract.

• Application Narrative.

• Curriculum Vitae (as appropriate).

• Literature Cited (as appropriate).

• Appendix (as appropriate).

• Budget Information Form (ED 524).

• General Education Provisions Act (GEPA) Section 427 Statement.

• Certifications and Assurances.

• Assurances-Non-Construction Programs (Standard Form 424B).

• Certification Regarding Lobbying; Debarment, Suspension, and Other Responsibility Matters; and Drug-Free Work-Place Requirements (ED Form 80-0013).

• Disclosure of Lobbying Activities (Standard Form LLL), if applicable.

• Certification Regarding Debarment, Suspension, Ineligibility and Voluntary Exclusion-Lower Tier Covered Transactions (ED Form 80-0014) Note: ED form GCS-0014 is intended for the use of primary participants and should not be transmitted to the Department.

BILLING CODE 4000-01-P

[FR Doc. 03-11113 Filed 5-1-03; 11:02 am]

BILLING CODE 4000-01-C